DEPARTMENT OF THE TREASURY

Notice of Rescission of Guidance to Federal Financial Assistance Recipients Regarding Title VI Prohibition Against National Origin Discrimination Affecting Limited English Proficient Persons

AGENCY: Department of the Treasury.

ACTION: Notice.

SUMMARY: This notice announces the Department of the Treasury's (“Department”) rescission of its guidance to Federal financial assistance recipients regarding the Title VI prohibition against national origin discrimination affecting limited English proficient (LEP) persons, consistent with Executive Order 14224, entitled Designating English as the Official Language of the United States.

DATES: Applicable March 4, 2026.

FOR FURTHER INFORMATION CONTACT: Snider Page, Director, Office of Civil Rights and Equal Employment Opportunity, Department of the Treasury, by emailing OCREcomments@treasury.gov or by calling (202) 622-0341 (this is not a toll-free number). For persons who are deaf, hard of hearing, have a speech disability or difficulty speaking may dial 7-1-1 to access telecommunications relay services.

SUPPLEMENTARY INFORMATION:

I. Background

On March 1, 2025, the President signed Executive Order (“E.O.”) 14224, Designating English as the Official Language of the United States. See 90 FR 11363 (Mar. 1, 2025). Among other things, E.O. 14224 revoked E.O. 13166, Improving Access to Services for Persons With Limited English Proficiency. See 65 FR 50121 (Aug. 16, 2000); E.O. 14224 (§ 3(b)). E.O. 14224 also directed the Attorney General to “provide updated guidance, consistent with applicable law.” Id. (§ 3(c)). On July 14, 2025, the Attorney General issued a memorandum providing guidance to the federal agencies on appropriate actions to implement E.O. 14224 (Attorney General memo).

E.O. 13166 directed “[e]ach agency providing Federal financial assistance shall draft title VI guidance specifically tailored to its recipients that is consistent with the LEP Guidance issued by the Department of Justice,” which were then to be published in the Federal Register for public comment. E.O. 13166 (§ 3). Title VI of the Civil Rights Act of 1964, 42 U.S.C. 2000d (Title VI), prohibits discrimination against or otherwise excluding individuals from programs or activities on the basis of race, color, or national origin, if those programs or activities receive federal financial assistance. The Department issued its own agency-specific Title VI language access guidance, which was finalized in 2005 after a notice and comment period. Guidance to Federal Financial Assistance Recipients Regarding Title VI Prohibition Against National Origin Discrimination Affecting Limited English Proficient Persons, 70 FR 6067 (February 4, 2005), (“2005 Treasury LEP Guidance”).

The Attorney General Memo encouraged all federal agencies to review prior guidance issued based on E.O. 13166 and rescind such guidance if it conflicts with E.O. 14224 and is not mandated by law or the Constitution.

II. Rescission of Treasury LEP Guidance

Consistent with E.O. 14224, and the July 14, 2025 Attorney General Memo, the Department rescinded its 2005 Treasury LEP Guidance on August 29, 2025.

III. Continuing Obligation

All recipients of the Department's financial assistance have a continuing obligation to comply with Title VI, all applicable Title VI implementing regulations, all applicable federal civil rights laws and nondiscrimination provisions. Recipients of federal financial assistance also have a continuing obligation under the Rehabilitation Act of 1973 to ensure that their communications with individuals with disabilities are as effective as communications with others and may need to provide qualified sign language interpreters for individuals who are deaf. Recipients of federal financial assistance, including subrecipients, are reminded that the denial of language assistance services can be evidence of discrimination on the basis of national origin or disability under certain circumstances.

The Department anticipates issuing updated language access guidance, consistent with law, as required by E.O. 14224, the July 14, 2025 Attorney General Memo, and future Department of Justice guidance.

Rachel Miller,
Executive Secretary.

[FR Doc. 2026-04218 Filed 3-3-26; 8:45 am]

BILLING CODE 4810-AK-P